DEPARTMENT OF ENERGY

Federal Energy Regulatory Commission

[Project No. 2696-033]

Albany Engineering Corporation; and Town of Stuyvesant; Notice of Application Tendered for Filing With the Commission and Soliciting Additional Study Requests

DATES: August 5, 2009.

Take notice that the following hydroelectric application has been filed with the Commission and is available for public inspection.

a. Type of Application: New Major License.

b. Project No.: P-2696-033.

c. Date filed: July 31, 2009.

d. Applicants: Albany Engineering Corporation and the Town of Stuyvesant.

e. Name of Project: Stuyvesant Falls Hydroelectric Project.

f. Location: The existing project is located on Kinderhook Creek (in the Hudson River drainage basin) in the town of Stuyvesant, Columbia County, New York. The project does not occupy any Federal lands.

g. Filed Pursuant to: Federal Power Act 16 U.S.C. 791 (a)-825(r).

h. Applicant Contact: Mr. James A. Besha, P.E., President, Albany Engineering Corporation, 5 Washington Square, Albany, New York 12205; (518) 456-7712.

i. FERC Contact: Carolyn Templeton at (202) 502-8785 or carolyn.templeton@ferc.gov.

j. Cooperating agencies: Federal, State, local, and tribal agencies with jurisdiction and/or special expertise with respect to environmental issues that wish to cooperate in the preparation of the environmental document should follow the instructions for filing such requests described in item (l) below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: September 29, 2009.

All documents (original and eight copies) should be filed with: Kimberly D. Bose, Secretary, Federal Energy Regulatory Commission, 888 First Street, NE., Washington, DC 20426.

Additional study requests and requests for cooperating agency status may be filed electronically via the Internet in lieu of paper. The Commission strongly encourages electronic filings. See 18 CFR 385.2001(a)(1)(iii) and the instructions on the Commission's Web site (http://www.ferc.gov/docs-filing/ferconline.asp) under the “efiling” link. For a simpler method of submitting text only comments, click on “Quick Comment.”

m. The application is not ready for environmental analysis at this time.

n. The Stuyvesant Falls Hydroelectric Project consists of the following existing facilities: (1) A 13-foot-high, 240-foot-long, masonry gravity dam with a Taintor gate and trash sluice near the south abutment; (2) a 46-acre reservoir with a normal pool elevation of 174.3 feet USGS datum; (3) two 7.5-foot-diameter, 2,860-foot-long, riveted-steel pipelines; (4) a 25-foot-diameter surge tank; (5) two 200-foot-long steel penstocks; (6) a powerhouse containing a single 2.8-megawatt generating unit; and (7) other appurtenances.

The following generating equipment is proposed as part of the new license: (1) A minimum flow turbine located in the powerhouse utilizing a rated flow range of 10—65 cubic feet per second (cfs) and rated at 590 horsepower at 97 feet of head directly connected to a 440-kVA generator; and (2) a minimum flow turbine utilizing a rated flow range of 15 cfs and rated at 37 horsepower at 30 feet of head, directly connected to a 35-kVA generator and located at the existing dam and intake, and discharging directly to the current bypass reach immediately below the dam via an equalizing weir.

No new transmission lines are proposed for this project. The following equipment would be procured and installed to replace equipment previously removed from the project: (1) A new step up transformer and 50-foot generator leads; and (2) a new 34.5-kilovolt (kV) primary circuit breaker, adjacent to the proposed step up transformer and 34.5-kV, 40-foot primary leads to an existing adjacent Niagara Mohawk Power Corporation substation.

o. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

You may also register online at http://www.ferc.gov/docs-filing/esubscription.asp to be notified via e-mail of new filings and issuances related to this or other pending projects. For assistance, contact FERC Online Support.

p. With this notice, we are initiating consultation with the New York State Historic Preservation Officer, as required by § 106, National Historic Preservation Act, and the regulations of the Advisory Council on Historic Preservation, 36, CFR, at 800.4.

q. Procedural schedule: The application will be processed according to the following Hydro Licensing Schedule. Revisions to the schedule will be made as appropriate.

Issue deficiency letter; September 2009.

Issue acceptance letter; January 2010.

Issue Scoping Document 1 for comments; February 2010.

Request additional information; March 2010.

Issue Scoping Document 2; April 2010.

Notice of application is ready for environmental analysis; April 2010.

Notice of the availability of the draft EA; December 2010.

Notice of the availability of the final EA; April 2011.

Nathaniel J. Davis, Sr.,
Deputy Secretary.

[FR Doc. E9-19269 Filed 8-11-09; 8:45 am]

BILLING CODE 6717-01-P